DEPARTMENT OF COMMERCE

International Trade Administration

[A-351-858, A-791-827]

Certain Lemon Juice From Brazil and the Republic of South Africa: Postponement of Preliminary Determinations in the Less-Than-Fair-Value Investigations

AGENCY: Enforcement and Compliance, International Trade Administration, Department of Commerce.

DATES: Applicable May 19, 2022.

FOR FURTHER INFORMATION CONTACT: Lilit Astvatsatrian and Dakota Potts (Brazil), or Elizabeth Bremer and Zachary Shaykin (the Republic of South Africa (South Africa)), AD/CVD Operations, Office IV, Enforcement and Compliance, International Trade Administration, U.S. Department of Commerce, 1401 Constitution Avenue NW, Washington, DC 20230; telephone: (202) 482-6412, (202) 482-0223, (202) 482-4987, or (202) 482-2638, respectively.

SUPPLEMENTARY INFORMATION:

Background

On January 19, 2022, the U.S. Department of Commerce (Commerce) initiated less-than-fair-value (LTFV) investigations of imports of certain lemon juice (lemon juice) from Brazil and South Africa.¹ Currently, the preliminary determinations are due no later than June 8, 2022.

¹ See Lemon Juice From Brazil and South Africa: Initiation of Less-Than-Fair-Value Investigations, 87 FR 3768 (January 25, 2022).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 10, 2022, Ventura Coastal, LLC (the petitioner) submitted a timely request that Commerce postpone the preliminary determinations in these LTFV investigations.² The petitioner stated that it requests postponement because Commerce has not yet received complete responses to the supplemental questionnaires it issued to respondents, and a postponement will ensure that Commerce has sufficient time to review all questionnaire responses and obtain clarification or additional information before determining the magnitude of dumping during the periods of investigation.³

² See Petitioner's Letter, “Lemon Juice from Brazil and South Africa: Petitioner's Request for Postponement of Preliminary Determination,” dated May 10, 2022.

³ Id.

For the reasons stated above and because there are no compelling reasons to deny the request, Commerce, in accordance with section 733(c)(1)(A) of the Act and 19 CFR 351.205(e), is postponing the deadline for the preliminary determinations by 50 days (i.e., 190 days after the date on which these investigations were initiated). As a result, Commerce will issue its preliminary determinations no later than July 28, 2022. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: May 13, 2022.
Lisa W. Wang,
Assistant Secretary for Enforcement and Compliance.

[FR Doc. 2022-10788 Filed 5-18-22; 8:45 am]

BILLING CODE 3510-DS-P